INTERNATIONAL TRADE COMMISSION

[Investigation No. 337-TA-1162]

Certain Touch-Controlled Mobile Devices, Computers, and Components Thereof; Commission Determination Not To Review an Initial Determination Terminating the Investigation as to Amazon, Dell, Lenovo, Microsoft, Motorola, and Samsung Based on Settlement; Termination of Investigation

AGENCY: U.S. International Trade Commission.

ACTION: Notice.

SUMMARY: Notice is hereby given that the U.S. International Trade Commission (“Commission”) has determined not to review an initial determination (“ID”) (Order No. 66) of the presiding administrative law judge (“ALJ”) that terminates the investigation as to the remaining respondents (Amazon, Dell, Lenovo, Microsoft, Motorola, and Samsung) based on a settlement. This investigation is terminated.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on June 24, 2019, based on a complaint filed by Neodron Ltd. of Dublin, Ireland (“Neodron”). 84 FR 29545 (June 24, 2019). The complaint, as amended, alleges violations of section 337 of the Tariff Act of 1930, as amended, 19 U.S.C. 1337 (“section 337”), based upon the importation into the United States, the sale for importation, and the sale within the United States after importation of certain touch-controlled mobile devices, computers, and components thereof by reason of infringement of certain claims of U.S. Patent Nos. 8,432,173; 8,791,910; 9,024,790; and 9,372,580. Id.; 84 FR 55584 (Oct. 17, 2019). The amended complaint further alleges that an industry in the United States exists as required by section 337. 84 FR 29545; 84 FR 55584. The notice of investigation, as amended, named as respondents Amazon.com, Inc. of Seattle, Washington (“Amazon”); Dell Inc. of Round Rock, Texas; Dell Products LP of Round Rock, Texas (together, “Dell”); HP Inc. of Palo Alto, California (“HP”); Lenovo Group Ltd. of Beijing, China; Lenovo (United States) Inc. of Morrisville, North Carolina (together, “Lenovo”); Microsoft Corporation of Redmond, Washington (“Microsoft”); Motorola Mobility LLC of Chicago, Illinois (“Motorola”); Samsung Electronics Co., Ltd. of Suwon, South Korea; and Samsung Electronics America, Inc. of Ridgefield Park, New Jersey (together, “Samsung”). 84 FR 29545; 84 FR 55584. The Office of Unfair Import Investigations is not participating in the investigation. 84 FR 29545.

On September 2, 2020, this investigation was terminated as to HP. Order No. 59 (Aug. 20, 2020), unreviewed, Notice (Sept. 2, 2020).

On January 25, 2021, Neodron, Amazon, Dell, Lenovo, Microsoft, Motorola, and Samsung filed a joint motion to terminate all remaining respondents from the investigation based on a settlement agreement.

On January 27, 2021, the ALJ issued Order No. 66, the subject ID, which granted the motion. The ID found that the motion complies with Commission Rule 210.21(b). The ID further found that terminating the investigation as to all remaining respondents will not adversely affect the public interest. Because the investigation had already terminated as to HP, the ID would result in the termination of the investigation in its entirety. No petitions for review of the ID were filed.

The Commission has determined not to review the subject ID. The investigation is hereby terminated in its entirety.

The Commission vote for this determination took place on February 8, 2021.

The authority for the Commission's determination is contained in section 337 of the Tariff Act of 1930, as amended (19 U.S.C. 1337), and in Part 210 of the Commission's Rules of Practice and Procedure (19 CFR part 210).

By order of the Commission.
Issued: February 8, 2021.
Lisa Barton,
Secretary to the Commission.

[FR Doc. 2021-02877 Filed 2-11-21; 8:45 am]

BILLING CODE 7020-02-P